DEPARTMENT OF ENERGY

Federal Energy Regulatory Commission

Notice of Application and Soliciting Comments, Motions To Intervene, and Protests

January 10, 2007.

Take notice that the following application has been filed with the Commission and is available for public inspection:

a. Application Type: Change in Land Rights.

b. Project No: 2113-189.

c. Date Filed: October 17, 2006.

d. Applicant: Wisconsin Valley Improvement Company (WVIC).

e. Name of Project: Wisconsin Valley (Reservoirs) Hydroelectric Project.

f. Location: The project is located on the Wisconsin River and Headwater Tributaries in Gogebic County, Michigan and Vilas, Forest, Oneida, Lincoln, and Marathon Counties, Wisconsin.

g. Filed Pursuant to: Federal Power Act, 16 U.S.C. 791(a)-825(r).

h. Applicant Contact: Robert W. Gall, President, Wisconsin Valley Improvement Company, 2301 North Third Street, Wausau, Wisconsin 54403, (715) 848-2976, ext. 308.

i. FERC Contact: Any questions on this notice should be addressed to Hillary Berlin at (202) 502-8915, or by e-mail: hillary.berlin@ferc.gov.

j. Deadline for filing comments and/or motions: February 9, 2007.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

k. Description of Proposal: WVIC, licensee for the Wisconsin Valley (Reservoirs) Project proposes the following at the Rainbow and Pickerel developments: (1) Transfer 3,868.4 acres of flooded project land to the Wisconsin Department of Natural Resources (WDNR); (2) transfer 2,414.5 acres of non-flooded land to WDNR; (3) transfer 290.4 acres operational project land to WDNR with WVIC retaining conservation easement; (4) transfer 3.9 acre parcel, 0.2 acre parcel, and 0.1 acre parcel from WVIC to Glenn Schiffmann (and out of project boundary); (5) transfer 9.0 acres to licensee from G. Schiffmann (and into project boundary); and (6) add 40 acres within the high water mark in sections 7 & 8, Town 39N, Range 9E to the project boundary. The licensee will retain areas owned in fee that contain land critical to project operation, flowage rights necessary for reservoir operation, and responsibility for Cultural Resource management of project lands.

l. A copy of the application is available for inspection and reproduction at the Commission in the Public Reference Room, located at 888 First Street NE., Room 2A, Washington DC 20426, or by calling (202) 502-8371. This filing may also be viewed on the Commission's Web site at http://www.ferc.gov using the “eLibrary” link. Enter the docket number (p-2113) excluding the last three digits in the docket number field to access the document. For assistance, call toll-free 1-866-208-3676 or e-mail FERCOnlineSupport@ferc.gov. For TTY, call (202) 502-8659. A copy is also available for inspection and reproduction at the address in item h above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E7-568 Filed 1-17-07; 8:45 am]

BILLING CODE 6717-01-P